DEPARTMENT OF LABOR

Occupational Safety and Health Administration

29 CFR Part 1903

[Docket No. OSHA-2023-0008]

RIN 1218-AD45

Worker Walkaround Representative Designation Process

AGENCY: Occupational Safety and Health Administration (OSHA), Labor.

ACTION: Notice of proposed rulemaking; extension of public comment period.

SUMMARY: On August 30, 2023, OSHA published a notice of proposed rulemaking (NPRM) titled “Worker Walkaround Representative Designation Process.” The period for submitting public comments is being extended by two weeks to allow stakeholders additional time to comment.

DATES: The comment period for the proposed rule published in the Federal Register on August 30, 2023 (88 FR 59825), is extended. Submit comments to the proposed rule and other information by November 13, 2023.

ADDRESSES: Comments may be submitted as follows:

Written comments: You may submit comments and attachments electronically at http://www.regulations.gov, which is the Federal eRulemaking Portal. Follow the online instructions for submitting comments.

Instructions: All submissions must include the agency's name and docket number for this rulemaking (Docket No. OSHA-2023-0008). All comments, including any personal information you provide, are placed in the public docket without change and may be made available online at http://www.regulations.gov. Therefore, OSHA cautions commenters about submitting information that they do not want made available to the public or submitting materials that contain personal information (either about themselves or others), such as Social Security numbers and birthdates.

Docket: To read or download comments or other information in the docket, go to Docket No. OSHA-2023-0008 at http://www.regulations.gov. All comments and submissions are listed in the http://www.regulations.gov index; however, some information (e.g., copyrighted material) is not publicly available to read or download through that website. All comments and submissions, including copyrighted material, are available for inspection through the OSHA Docket Office. Contact the OSHA Docket Office at (202) 693-2500 (TDY number 877-889-5627) for assistance in locating docket submissions.

FOR FURTHER INFORMATION CONTACT:

Press inquiries: Frank Meilinger, Director, OSHA Office of Communications, telephone: (202) 693-1999; email: meilinger.francis2@dol.gov.

General and technical inquiries: Donald Klienback, OSHA Directorate of Construction, telephone: (202) 693-2020; email: klienback.donald.w@dol.gov.

Copies of this Federal Register notice and news releases: Electronic copies of these documents are available at OSHA's web page at http://www.osha.gov.

SUPPLEMENTARY INFORMATION:

On August 30, 2023, OSHA published a NPRM titled “Worker Walkaround Representative Designation Process.” (88 FR 59825). In the NPRM, OSHA proposed to amend its Representatives of Employers and Employees regulation to clarify that the representative(s) authorized by employees may be an employee of the employer or a third party; such third-party employee representative(s) may accompany the OSHA Compliance Safety and Health Officer (CSHO) when they are reasonably necessary to aid in the inspection. OSHA also proposed clarifications of the relevant knowledge, skills, or experience with hazards or conditions in the workplace or similar workplaces, or language skills of third-party representative(s) authorized by employees who may be reasonably necessary to the conduct of a CSHO's physical inspection of the workplace.

The public comment period for this NPRM was to conclude on October 30, 2023, 60 days after publication of the NPRM. However, OSHA received requests from stakeholders for a 60-day extension of the public comment period (Document ID 0015; 0018). OSHA agrees to an extension of the public comment period and believes that a two-week extension is sufficient and appropriate in order to balance the agency's need for timely input with the stakeholders' request. Accordingly, the comment period for this NPRM is being extended and will now conclude on November 13, 2023.

Authority and Signature

Douglas L. Parker, Assistant Secretary of Labor for Occupational Safety and Health, U.S. Department of Labor, authorized the preparation of this document pursuant to 29 U.S.C. 657; 5 U.S.C. 553; Secretary of Labor's Order 8-2020, 85 FR 58393 (2020).

Signed at Washington, DC.
Douglas L. Parker,
Assistant Secretary of Labor for Occupational Safety and Health.

[FR Doc. 2023-22705 Filed 10-13-23; 8:45 am]

BILLING CODE 4510-26-P